ENVIRONMENTAL PROTECTION AGENCY

[FRL-6846-1]

Notification of Proposed Policy Change; Superfund Construction Completion List

AGENCY: Environmental Protection Agency.

ACTION: Notice of proposed policy change.

SUMMARY: The Environmental Protection Agency (EPA) is today proposing to revise its policy with respect to the Construction Completion category established in the National Priorities List (NPL) under the Comprehensive Environmental Response, Compensation, and Liability Act, as amended (CERCLA). Existing Agency policy had limited sites eligible for inclusion to the Construction Completion List (CCL) to sites that are on the NPL at the time a determination is made that all physical construction has been completed. As a result, deleted sites would never qualify for the CCL if physical construction remains at the time of deletion from the NPL.

The proposed policy would allow all sites that are on the NPL or have been deleted from the NPL to be eligible for the CCL when all physical construction under all authorities is complete and all other applicable construction completion policy criteria have been satisfied. This will allow Superfund to track and report completion of all construction activities at NPL sites.

DATES: Comments on the proposed policy change must be submitted by September 5, 2000.

ADDRESSES: Send comments to: Mr. Richard Jeng, Office of Emergency and Remedial Response (5204-G), U.S. Environmental Protection Agency, 1200 Pennsylvania Avenue, NW, Washington, DC 20460.

FOR FURTHER INFORMATION CONTACT: Mr. Richard Jeng, Office of Emergency and Remedial Response (5204-G), U.S. Environmental Protection Agency, 1200 Pennsylvania Avenue, NW, Washington, DC 20460 at (703) 603-8749 or e-mail Jeng.Richard@epa.gov or the RCRA/Superfund Hotline from 8:30 a.m. to 7:30 p.m., Monday-Friday, toll free at 1-(800)-424-9346.

SUPPLEMENTARY INFORMATION:

A. Background

During the initial years of the Superfund program, outside audiences often measured Superfund's progress in cleaning up sites by the number of sites deleted from the NPL as compared to the number of sites on the NPL. This measure, however, did not and still does not fully recognize the substantial construction and reduction of risk to human health and the environment that has occurred at NPL sites. In response, the National Contingency Plan Preamble Federal Register (FR) Notice (55 FR 8699, March 8, 1990) established a Construction Completion category of NPL sites to more clearly communicate to the public the status of cleanup progress among sites on the NPL.

A later Notification of Policy Change Federal Register Notice (58 FR 12142, March 2, 1993) introduced the Superfund Construction Completions List (CCL) “* * * to simplify its system of categorizing sites and to better communicate the successful completion of cleanup activities.” A total of 155 sites were included on this initial list. The same notice that introduced the CCL also indicated that “* * * deleted sites will not qualify for the CCL if physical construction remains to be conducted under another statutory authority.” As a result, EPA adopted the policy where only sites on the NPL (i.e., not proposed or deleted sites) should qualify for inclusion to the CCL. In EPA's Close Out Procedures for National Priorities List Sites (Office of Solid Waste and Emergency Response Directive 9320.2-09 A-P, January 2000) guidance, EPA defined a construction completion site as a former toxic waste site where physical construction of all cleanup actions is complete, all immediate threats have been addressed, and all long-term threats are under control.

B. Notice of Proposed Policy Change

Construction Completion List (CCL) will now include sites deleted from the NPL.

EPA now believes it is important to assess all NPL Superfund sites, including those that have been deleted, to ensure that all construction of response actions has been completed. In doing so, EPA believes that although a site is deleted from the Superfund NPL, it should be accounted for on the CCL when EPA determines that all physical construction is complete under all statutory authorities and all applicable construction completion policy criteria have been satisfied. Any previously listed NPL Superfund site added to the CCL as a result of this proposed policy change will be subject to all report documentation requirements as currently required for construction completions at NPL sites. Program projections indicate that this proposed policy revision could eventually affect up to eight sites currently deleted from the NPL. This includes sites deleted from the NPL as a result of deferral of physical construction to another authority. Should the proposed policy change become effective during the current fiscal year, one of the eight sites will have all physical construction completed under all authorities and will be added to the CCL in fiscal year 2000.

Notice: This document does not substitute for EPA's statutes or regulations, nor is it a regulation itself. Thus, it does not impose legally-binding requirements on EPA, states, or the regulated community. EPA may change this guidance in the future, as appropriate.

Dated: July 27, 2000.
Timothy Fields, Jr.,
Assistant Administrator, Office of Solid Waste and Emergency Response.

[FR Doc. 00-19789 Filed 8-3-00; 8:45 am]

BILLING CODE 6560-50-P